AFRICAN DEVELOPMENT FOUNDATION

Public Quarterly Meeting of the Board of Directors

AGENCY: United States African Development Foundation. ACTION: Notice of meeting.

SUMMARY: The US African Development Foundation (USADF) will hold its quarterly meeting of the Board of Directors to discuss the agency's programs and administration. This meeting location will be held via teleconference. For teleconference details, see the provided contact information.

DATES: The meeting date is Tuesday, April 21, 2020, 10:30 a.m. to 12:00 p.m.

FOR FURTHER INFORMATION CONTACT: Ms. Nina-Belle Mbayu, (202) 233-8808, nbmbayu@usadf.gov.

Authority: Public Law 96-533 (22 U.S.C.§ 290h).

Dated: April 14, 2020.
Nina-Belle Mbayu,
Acting General Counsel.

[FR Doc. 2020-08177 Filed 4-16-20; 8:45 am]

BILLING CODE 6117-01-P